SOCIAL SECURITY ADMINISTRATION

Agency Information Collection Activities: Proposed Request

The Social Security Administration (SSA) publishes a list of information collection packages requiring clearance by the Office of Management and Budget (OMB) in compliance with Public Law (Pub. L.) 104-13, the Paperwork Reduction Act of 1995, effective October 1, 1995. This notice includes a revision to an OMB-approved information collection.

SSA is soliciting comments on the accuracy of the agency's burden estimate; the need for the information; its practical utility; ways to enhance its quality, utility, and clarity; and ways to minimize the burden on respondents, including the use of automated collection techniques or other forms of information technology. Mail, e-mail, or fax your comments and recommendations on the information collection(s) to the OMB Desk Officer and the SSA Reports Clearance Officer to the addresses or fax numbers listed below.

(OMB), Office of Management and Budget, Attn: Desk Officer for SSA, Fax: 202-395-6974m, e-mail address: OIRA_Submission@omb.eop.gov.

Social Security Administration, DCBFM, Attn: Reports Clearance Officer, 1333 Annex Building, 6401 Security Blvd., Baltimore, MD 21235, Fax: 410-965-6400, e-mail address: OPLM.RCO@ssa.gov.

I. The information collection below is pending at SSA. SSA will submit it to OMB within 60 days from the date of this notice. Therefore, your comments would be most helpful if you submit them to SSA within 60 days from the date of this publication. Individuals can obtain copies of the collection instrument by calling the SSA Reports Clearance Officer at 410-965-0454 or by writing to the e-mail address listed above.

1. Application for Mother's or Father's Insurance Benefits—20 CFR 404.339-404.342, 20 CFR 404.601-404.603—0960-0003. The Social Security Act provides for the payment of monthly benefits to the widow or widower of an insured individual if the surviving spouse is caring for the deceased worker's child who is entitled to Social Security benefits. SSA uses the information collected on Form SSA-5-F6 to entitle an individual to mother's or father's insurance benefits. The respondents are individuals applying for mother's or father's insurance benefits under the Old Age, Survivors, and Disability Insurance (OASDI) program.

Type of Request: Revision of an OMB-approved information collection.

Number of Respondents: 53,700.

Frequency of Response: 1.

Average Burden Per Response: 15 minutes.

Estimated Average Burden: 12,992 hours.

2. Statement of Marital Relationship (By one of the parties)—20 CFR 404. 726—0960-0038. Where no formal marriage documentation exists, SSA uses information collected on Form SSA-754-F4 to determine whether an individual applying for spousal benefits meets the criteria of common-law marriage under State law. The respondents are applicants for spouse's Social Security or Supplemental Security Income (SSI) benefits.

Type of Request: Extension of an OMB-approved information collection.

Number of Respondents: 30,000.

Frequency of Response: 1.

Average Burden Per Response: 30 minutes.

Estimated Annual Burden: 15,000 hours.

3. Public Information Campaign—0960-0544. Periodically, SSA sends various public information materials, including public service announcements, news releases, and educational tapes, to public broadcasting systems so they can inform the public about various programs and activities conducted by SSA. SSA will frequently send follow-up business reply cards for these public information materials to obtain suggestions for improving them. The respondents are media sources (e.g., broadcast television and radio media sources) who have received public information campaign materials.

Type of Request: Extension of an OMB-approved information collection.

Number of Respondents: 6,000.

Frequency of Response: 2.

Average Burden Per Response: 1 minute.

Estimated Annual Burden: 200 hours.

4. Medical Source Statement of Ability To Do Work Related Activities (Physical and Mental)—20 CFR 404.1512-404.1513, 404.912-404.913, 404.1517, 416.917—0960-0662. SSA uses the Forms HA-1151 and HA-1152 to collect data that is required to determine the residual functional capacity (RFC) of individuals who are appealing denied claims for benefits based on disability. The RFC of an individual must be determined in cases where SSA cannot make a determination on a claim for benefits based on current work activity or on medical facts alone. The respondents are medical sources paid by SSA to provide reports either based on existing medical evidence or on consultative examinations conducted for the purposes of the report.

Type of Request: Extension of an OMB-approved information collection.

Number of Respondents: 10,000.

Frequency of Response: 20.

Average Burden Per Response: 15 minutes.

Estimated Annual Burden: 50,000 hours.

II. SSA has submitted the information collections listed below to OMB for clearance. Your comments on the information collections would be most useful if received by OMB and SSA within 30 days from the date of this publication. You can obtain a copy of the OMB clearance packages by calling the SSA Reports Clearance Officer at 410-965-0454, or by writing to the above listed address.

1. Marriage Certification—20 CFR 404.725—0960-0009. SSA uses Form SSA-3 to collect information to determine if the spouse claimant has the necessary relationship to the number holder (i.e., the worker) to qualify for OASDI benefits. The respondents are applicants for spouse's OASDI benefits.

Type of Request: Extension of an OMB-approved information collection.

Number of Respondents: 180,000.

Frequency of Response: 1.

Average Burden Per Response: 5 minutes.

Estimated Annual Burden: 15,000 hours.

2. Claimant's Work Background—20 CFR 404.1565(b), 20 CFR 416.965(b)—0960-0300. Form HA-4633 collects information SSA needs to assess an individual's degree of disability within the meaning of the Social Security Act (the Act). SSA uses the information in cases where an individual requests a hearing before an administrative law judge (ALJ) on the issue of disability. The completed HA-4633 provides an updated summary of the individual's relevant work history. The ALJ requires this information in assessing the claimant's degree of disability within the meaning of the Act. The respondents are members of the public who have filed for disability benefits under Title II and/or Title XVI and have requested a hearing before an ALJ.

Note: SSA listed this information collection as an extension of an OMB-approved information collection in the 60-Day Federal Register Notice published on September 17, 2008; it is a revision of an OMB-approved information collection.

Type of Request: Revision of an OMB-approved information collection.

Number of Respondents: 151,000.

Frequency of Response: 1.

Average Burden Per Response: 15 minutes.

Estimated Annual Burden: 37,750 hours.

3. Letter to Landlord Requesting Rental Information—20 CFR 416.1130 (b)—0960-0454. SSA collects information on Form SSA-L5061 to identify rental subsidy arrangements involving applicants for, and recipients of, SSI payments. SSA uses the information to determine an income value for these subsidies, eligibility for payments, and the correct amount payable. The respondents are landlords of SSI claimants.

Type of Request: Extension of an OMB-approved information collection.

Number of Respondents: 49,000.

Frequency of Response: 1.

Average Burden Per Response: 10 minutes.

Estimated Annual Burden: 8,167 hours.

Dated: October 21, 2008.
Elizabeth A. Davidson,
Reports Clearance Officer, Social Security Administration

[FR Doc. E8-25531 Filed 10-24-08; 8:45 am]

BILLING CODE 4191-02-P